SOCIAL SECURITY ADMINISTRATION

Statement of Organization, Functions and Delegations of Authority

This statement amends Part S of the Statement of Organization, Functions and Delegations of Authority, which covers the Social Security Administration (SSA). Chapter S1 covers the Office of the Deputy Commissioner, Finance, Assessment and Management. Notice is given that Subchapter S1R, the Office of Facilities Management, is being amended to establish a new Office of Buildings Management (S1RM) and to reflect internal changes within the other existing Offices. The following material replaces Subchapter S1R in its entirety.

Subchapter S1R

Office of Facilities Management

S1R.00 Mission

S1R.10 Organization

S1R.20 Functions

Section S1R.00 The Office of Facilities Management—(Mission):

The Office of Facilities Management (OFM) manages SSA-wide materiel management and facilities management programs. It directs SSA's national real property program including short- and long-range facilities planning; design, construction and leasing of central office facilities; and maintenance, repair and construction projects and policy development related to the operation of delegated buildings. It acquires, utilizes and manages space at SSA headquarters and develops a comprehensive space inventory and utilization system. It develops, implements and evaluates SSA's national environmental protection, safety and protective services programs. It ensures that these programs are responsive to the needs of the Agency and serves as a focal point for inquiries and guidance concerning these programs.

Section S1R.10 The Office of Facilities Management—(Organization):

The Office of Facilities Management, under the leadership of the Associate Commissioner for Facilities Management, includes:

A. The Associate Commissioner for Facilities Management (S1R).

B. The Deputy Associate Commissioner for Facilities Management (S1R).

C. The Immediate Office of the Associate Commissioner for Facilities Management (S1R).

1. Information Systems Management Staff (S1R-1).

D. The Office of Realty Management (S1RE).

1. Division of Architectural and Engineering Services (S1RE1).

2. Division of Field Support and Delegated Programs (S1RE4).

3. Division of Project Management (S1RE3).

E. The Office of Environmental Health and Occupational Safety (S1RG).

1. Division of Environmental Services (S1RG1).

2. Division of Industrial Hygiene (S1RG3).

F. The Office of Buildings Management (S1RM).

1. Division of Main Complex Management (S1RM1).

2. Division of Outlying Buildings Management (S1RM2).

3. Division of the National Computer Center (S1RM3).

G. The Office of Protective Security Services (S1RL).

1. Division of Security Program Services (S1RL1).

2. Division of Information Security Policy (S1RL3).

Section S1R.20 The Office of Facilities Management—(Functions):

A. The Associate Commissioner for Facilities Management (S1R) is directly responsible to the Deputy Commissioner for Finance, Assessment and Management for carrying out OFM's mission and provides general supervision to the major components of OFM.

B. The Deputy Associate Commissioner for Facilities Management (S1R) assists the Associate Commissioner in carrying out his/her responsibilities and performs other duties as the Associate Commissioner may prescribe.

C. The Immediate Office of the Associate Commissioner for Facilities Management (S1R) provides the Associate Commissioner with staff assistance on the full range of his/her responsibilities.

1. The Information Systems Management Staff (S1R-1) supports OFM components by planning, designing, developing, maintaining and improving OFM's information management infrastructure. Functions also include providing LAN/WAN administration, network and data security, and direct support for OFM's computer users.

D. The Office of Realty Management (S1RE) directs SSA's national real property program, including short- and long-range capital planning and budgeting, building management, cost savings initiatives and asset management.

1. The Division of Architectural and Engineering (A/E) Services (S1RE1) manages SSA's A/E and fire protection programs including A/E service contracts, and provides planning, investigation, technical consultation and design support, as well as facilities graphic database and document management.

2. The Division of Field Support and Delegated Programs (S1RE4) oversees SSA's energy management, recycling, and building delegation's programs, as well as portfolio management, including space acquisition, use and budget, and provides technical assistance for site preparation in support of the Agency's automation initiatives.

3. The Division of Project Management (S1RE3) oversees SSA prospectus and non-prospectus level construction and renovation projects in the Agency's major buildings nationwide, and completes SSA's facilities capital planning and budgeting activities.

E. The Office of Environmental Health and Occupational Safety (S1RG) directs SSA's national environmental health and occupational safety programs. Functions include long- and short-range planning, managing the Agency's national asbestos management program, managing national programs for water and indoor air quality, developing and implementing policies, procedures and technical assistance to support these national programs, and conducting comprehensive assessments of these programs.

1. The Division of Environmental Services (S1RG1) directs various SSA environmental health and safety programs and participates with the Division of Industrial Hygiene to implement national industrial hygiene programs.

2. The Division of Industrial Hygiene (S1RG3) directs the Agency's Industrial Hygiene Programs and participates with the Division of Environmental Services (DES) to implement various SSA national environmental health and safety programs and conducts comprehensive assessments of the DES programs.

F. The Office of Buildings Management (S1RM) directs operations at the East, Operations, Annex, West, Supply, Altmeyer, Metro West and National Computer Center Buildings and all leased headquarters space in Baltimore and Washington, DC Functions include long- and short-range planning, construction, and lease management, maintenance, repair, preventive maintenance, space planning and the development and implementation of policies, procedures and technical assistance to support these programs.

1. The Division of Main Complex Management (S1RM1) directs the day-to-day support of building operations at the East, Operations, Annex, West, Supply and Altmeyer Buildings. Responsibilities include long- and short-range planning, maintenance, repair, and development and implementation of policies and technical assistance to support these programs.

2. The Division of Outlying Buildings Management (S1RM2) directs the day-to-day support of building operations at the Metro West Building and all leased headquarters facilities in Baltimore and Washington, DC Responsibilities include long- and short-range planning, maintenance repair, and development and implementation of policies and technical assistance to support these programs.

3. The Division of the National Computer Center (S1RM3) directs the day-to-day support of building operations at the National Computer Center and the Utility Building. Responsibilities include long- and short-range planning, maintenance, repair, and development and implementation of policies and technical assistance to support these programs.

G. The Office of Protective Security Services (S1RL) directs SSA's physical and protective security program. Functions include formulating and administering physical security policies and procedures and for providing physical security operations and services Agency-wide for SSA personnel and property.

1. The Division of Security Program Services (S1RL1) provides physical security services at SSA facilities nationwide including developing and issuing policy and procedural guidance, conducting physical security reviews to identify vulnerabilities and recommend remedial actions, providing contract security guard oversight, establishing security action/emergency response plans, recommending and funding alarm systems/electronic security devices, designing space configurations and locking mechanisms to secure property and records and analysis of incident information.

2. The Division of Information Security Policy (S1RL3) develops and issues security policy, procedures and guidance for SSA facilities nationwide for the Agency suitability program for non-programmatic contracts, the Occupant Emergency Program (OEO), the property pass program, and the Agency-wide access program. Other functions include administering the parking and commuter support programs for Headquarters facilities.

Dated: August 30, 2001.
Paul Barnes,
Deputy Commissioner for Human Resources.

[FR Doc. 01-19643 Filed 8-6-01; 8:45 am]

BILLING CODE 4191-02-U